DEPARTMENT OF THE INTERIOR

National Park Service

[NPS-WASO-NAGPRA-NPS0038354; PPWOCRADN0-PCU00RP14.R50000]

Notice of Inventory Completion: U.S. Army Corps of Engineers, Little Rock District, Little Rock, AR

AGENCY: National Park Service, Interior.

ACTION: Notice.

SUMMARY: In accordance with the Native American Graves Protection and Repatriation Act (NAGPRA), the U.S. Army Corps of Engineers, Little Rock District has completed an inventory of associated funerary objects and has determined that there is a cultural affiliation between the associated funerary objects and Indian Tribes or Native Hawaiian organizations in this notice.

DATES: Repatriation of the associated funerary objects in this notice may occur on or after August 29, 2024.

ADDRESSES: Mr. Allen Wilson, District Archaeologist and Tribal Liaison, U.S. Army Corps Engineers, Little Rock District, P.O. Box 867, Little Rock, AR 72203, telephone (501) 324-5752, email allen.d.wilson@usace.army.mil.

SUPPLEMENTARY INFORMATION: This notice is published as part of the National Park Service's administrative responsibilities under NAGPRA. The determinations in this notice are the sole responsibility of the U.S. Army Corps of Engineers, Little Rock District, and additional information on the determinations in this notice, including the results of consultation, can be found in its inventory or related records. The National Park Service is not responsible for the determinations in this notice.

Abstract of Information Available

In 1961, Charles McGimsey of the University of Arkansas undertook archaeological research at the Mineral Springs site (3HO1) on the Millwood Reservoir, Howard County, AR. Artifacts indicate a Fourche Maline phase with a Caddoan Mississippian occupation of the site from 500 B.C. to the Contact Period. A Notice of Inventory Completion was published in the Federal Register on January 16, 2014 (79 FR 2864-2866) listing a minimum of 11 individuals and 106 associated funerary objects from this site. Subsequently, 766 additional associated funerary objects were identified in collections at the University of Arkansas. The collection is located at the University of Arkansas Museum, University of Arkansas, Fayetteville, AR. The 766 associated funerary objects are two celts, 558 individual and 25 lots of ceramic sherds, four individual and two lots of fragmented ceramic vessels, 20 intact vessels, one cut nail, one faunal bone, three fragmented clay pipes, five glass fragments, four groundstone, two incomplete celts, 112 individual and one lot of lithics, three lithic flakes, five polished stones, seven projectile points, two reconstructed vessels, one red ochre, three rocks, four shell fragments, and one walnut shell.

In 1961, Michael P. Hoffman of the University of Arkansas undertook archaeological research at the Bell site (3HO11) on the Millwood Reservoir, Howard County, AR. Artifacts indicate a late Fourche Maline phase with a Caddoan Mississippian occupation of the site from 500 B.C. to the Contact Period. A Notice of Inventory Completion was published in the Federal Register on January 16, 2014 (79 FR 2864-2866) listing a minimum of three individuals and no associated funerary objects. Subsequently, 24 additional associated funerary objects were identified in collections at the University of Arkansas. The collection is stored in the University of Arkansas Museum, University of Arkansas, Fayetteville, AR. The 24 associated funerary objects are one daub, two individual and one lot of faunal bone, two lithic bifaces, two chipped stone, three unmodified quartzite, 11 ceramics, and two shells.

In the early 1960s, under the direction of James Scholtz, the University of Arkansas undertook archaeological research at the White Cliffs site (3LR12) on the Millwood Reservoir, Little River County, AR. Artifacts indicate an early Caddoan Mississippian occupation of the site from A.D. 900 to 1200. A Notice of Inventory Completion was published in the Federal Register on January 14, 2014 (70 FR 2864-2866) listing a minimum of 11 individuals and 19 associated funerary objects. Subsequently, 284 additional associated funerary objects were identified in collections at the University of Arkansas. The collection is stored in the University of Arkansas Museum, University of Arkansas, Fayetteville, AR. The 284 associated funerary objects are 20 biface fragments, 82 ceramic sherds, four lots of charcoal, 68 pieces of debitage, one decorated pipe, three drills, 39 faunal bones, four gravers, six groundstone fragments, one modified faunal bone, 37 projectile points, two lots of soil matrix, one uniface, and 16 unmodified stones.

In the early 1960s, under the direction of Charles McGimsey, the University of Arkansas undertook archaeological research at the Old Martin Place site (3LR49) on the Millwood Reservoir, Little River County, AR. Artifacts indicate a Fourche Maline phase with a Caddoan Mississippian occupation of the site from 500 to the Contact Period. A Notice of Inventory Completion was published in the Federal Register on January 16, 2014 (79 FR 2864-2866) listing a minimum of 47 individuals and eight associated funerary objects. Subsequently, 78 additional associated funerary objects were identified in collections at the University of Arkansas. The collection is stored in the University of Arkansas Museum, University of Arkansas, Fayetteville, AR. The 78 associated funerary objects are 11 ceramic sherds, 21 faunal bones, 25 lithics, one lot of mixed faunal, five rocks, 14 shells, and one soil sample.

In the early 1960s, Michael P. Hoffman of the University of Arkansas undertook archaeological research at the Millers Crossing site (3SV10) on the Millwood Reservoir, Sevier, AR. Artifacts indicate an early Caddoan Mississippian occupation of the site from A.D. 900 to 1200. A Notice of Inventory Completion was published in the Federal Register on January 16, 2014 (79 FR 2864-2866) listing a minimum of seven individuals and 16 associated funerary objects. Subsequently, 47 additional associated funerary objects were identified in collections at the University of Arkansas. The collection is stored in the University of Arkansas Museum, University of Arkansas, Fayetteville, AR. The 47 associated funerary objects are one stone knife, 42 ceramic sherds, two lithics, one faunal bone, and one shell.

In the early 1960s, Michael P. Hoffman of the University of Arkansas undertook archaeological research at the Graves Chapel site (3SV15) on the Millwood Reservoir, Sevier, AR. Artifacts indicate a late Archaic period (3000-650 B.C.) and Late Woodland (A.D. 500-900) to Early Caddoan Mississippian (A.D. 900-1200) components of the site. A Notice of Inventory Completion was published in the Federal Register on January 16, 2014 (79 FR 2864-2866) listing a minimum of five individuals and no associated funerary objects. Subsequently, 53 associated funerary objects were discovered in collections at the University of Arkansas. The collection is stored in the University of Arkansas Museum, University of Arkansas, Fayetteville, AR. The 53 associated funerary objects are one charcoal sample, 46 ceramic sherds, and six lithics.

In the early 1960s, archaeological research was conducted at the Millwood Reservoir site (3SV21) in Sevier County, AR. Artifacts indicate a late prehistoric period occupation of the site from A.D. 900 to 1500. A Notice of Inventory Completion was published in the Federal Register on January 16, 2014 (79 FR 2864-2866) listing a minimum of two individuals and no associated funerary objects. Subsequently, five associated funerary objects were discovered collections at the in University of Arkansas. The collection is stored in the University of Arkansas Museum, University of Arkansas, Fayetteville, AR. The five associated funerary objects are two projectile points, one groundstone, one chipped stone, and one shell.

Cultural Affiliation

Based on the information available and the results of consultation, cultural affiliation with the Caddo Nation of Oklahoma is clearly identified by the information available about the associated funerary objects described in this notice.

Determinations

The U.S. Army Corps of Engineers, Little Rock District has determined that:

• The 1,257 objects described in this notice are reasonably believed to have been placed intentionally with or near individual human remains at the time of death or later as part of the death rite or ceremony.

• There is a connection between the human remains and associated funerary objects described in this notice and the Caddo Nation of Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after August 29, 2024. If competing requests for repatriation are received, the U.S. Army Corps of Engineers, Little Rock District must determine the most appropriate requestor prior to repatriation. Requests for joint repatriation of the human remains and associated funerary objects are considered a single request and not competing requests. The U.S. Army Corps of Engineers, Little Rock District is responsible for sending a copy of this notice to the Indian Tribes and Native Hawaiian organizations identified in this notice.

Authority: Native American Graves Protection and Repatriation Act, 25 U.S.C. 3003, and the implementing regulations, 43 CFR 10.10.

Dated: July 17, 2024.
Melanie O'Brien,
Manager, National NAGPRA Program.

[FR Doc. 2024-16710 Filed 7-29-24; 8:45 am]

BILLING CODE 4312-52-P